FEDERAL ELECTION COMMISSION

Sunshine Act Notices

AGENCY: Federal Election Commission.

Date & Time: Thursday, November 20, 2008 at 10 a.m.

Place: 999 E Street, NW., Washington, DC (Ninth Floor).

Status: This Meeting Will Be Open To The Public.

Items To Be Discussed: Correction and Approval of Minutes.

Draft Advisory Opinion 2008-16: Libertarian Party of Colorado, by Leah Kelley, Treasurer.

Management and Administrative Matters.

Person to Contact for Information: Robert Biersack, Press Officer, Telephone: (202) 694-1220.

Individuals who plan to attend and require special assistance, such as sign language interpretation or other reasonable accommodations, should contact Mary Dove, Commission Secretary, at (202)694-1040, at least 72 hours prior to the hearing date.

Mary W. Dove,
Secretary of the Commission.

[FR Doc. E8-27380 Filed 11-18-08; 8:45 am]

BILLING CODE 6715-01-M